DEPARTMENT OF AGRICULTURE

Submission for OMB Review; Comment Request

May 22, 2019.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 28, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Annual State Report of Verification of SNAP Participants.

OMB Control Number: 0584-0605.

Summary of Collection: Section 4032 of the Agriculture Act of 2014 mandates States agencies will “submit to the Secretary a report containing sufficient information for the Secretary to determine whether the State agency has, for the most recently concluded fiscal year preceding that annual date, verified that the State agency in that fiscal year- (1) did not issue benefits to a deceased individual; and (2) did not issue benefits to an individual who had been permanently disqualified from receiving benefits.”

Need and Use of the Information: The purpose of the Annual State Report of Verification of SNAP Participants is to ensure that no person who is deceased, or has been permanently disqualified from SNAP, improperly received SNAP benefits for the fiscal year preceding the report submission.

State agency will use this information performing mandated checks against both eDRS and the SSA Death Master File, send an email to their FNS Regional Office SNAP Program Director to provide the verification, and any additional recordkeeping associated with this burden. States must perform this verification once a year and must retain these records for 3 years. FNS will use this information to ensure compliance and program integrity.

Description of Respondents: State, Local, or Tribal Government.

Number of Respondents: 53.

Frequency of Responses: Recordkeeping; Reporting: Annually.

Total Annual Responses: 106.

Total Burden Hours: 57.

Food and Nutrition Service

Title: Supplemental Nutrition Assistance Program Requirement for National Directory of New Hires Employment Verification and Annual Program Activity Reporting.

OMB Control Number: 0584-0608.

Summary of Collection: This requirement codified Section 4013 of the Agricultural Act of 2014 (Pub. L. 113-79). FNS amended the SNAP regulations at 7 CFR 272 to require State agencies to access employment data through the National Directory of New Hires (NDNH) at the time of certification, including recertification, to determine eligibility status and appropriate benefit amount for SNAP applicants.

Need and Use of the Information: National Directory of New Hires, State agencies are required to compare identifiable information about each household member against data from the NDNH at the time of certification and recertification. This comparison will be used to determine the eligibility status of the household and determine the correct benefit amount the household should receive.

The data reported on the Program Activity Statement (FNS 366B) enables FNS to identify areas that may need improvement and to provide more effective technical assistance to State agencies. An increase in reporting frequency will allow for greater access to timely program data. It will help States, FNS, and other stakeholders identify trends, inconsistencies and inefficiencies earlier in each fiscal year. FNS uses the data to monitor State agency activity levels and performance, ensure program integrity and to identify and provide technical assistance to State agencies in need of performance improvements.

Description of Respondents: State, Local, or Tribal Government; Individual or households.

Number of Respondents: 891,125.

Frequency of Responses: Recordkeeping; Reporting: On occasion; Annually.

Total Annual Responses: 12,277,204.

Total Burden Hours: 252,433.

Ruth Brown,
Departmental Information Collection Clearance Officer.

[FR Doc. 2019-11069 Filed 5-28-19; 8:45 am]

BILLING CODE 3410-30-P